DEPARTMENT OF TRANSPORTATION

National Highway Traffic Safety Administration

[U.S. DOT Docket No. NHTSA-2011-0130]

Reports, Forms, and Record Keeping Requirements

AGENCY: National Highway Traffic Safety Administration (NHTSA), U.S. Department of Transportation.

ACTION: Request for public comment on proposed collection of information.

SUMMARY: Before a Federal agency can collect certain information from the public, it must receive approval from the Office of Management and Budget (OMB). Under procedures established by the Paperwork Reduction Act of 1995, before seeking OMB approval, Federal agencies must solicit public comment on proposed collections of information, including extensions and reinstatement of previously approved collections.

This document describes one collection of information for which NHTSA intends to seek OMB approval.

DATES: Comments must be received on or before November 7, 2011.

ADDRESSES: You may submit comments, identified by the docket number in the heading of this document, by any of the following methods:

• Federal eRulemaking Portal: Go to http://www.regulations.gov. Follow the instructions for submitting comments on the electronic docket site by clicking on “Help” or “FAQ.”

• Hand Delivery: 1200 New Jersey Avenue, SE., West Building Ground Floor, Room W12-140, between 9 a.m. and 5 p.m. Eastern Time, Monday through Friday, except Federal holidays.

• Fax: 202-493-2251.

Regardless of how you submit comments, you should mention the docket number of this document.

You may call the Docket Management Facility at 202-366-9826.

Instructions: For detailed instructions on submitting comments and additional information on the rulemaking process, see the Public Participation heading of the Supplementary Information section of this document. Note that all comments received will be posted without change to http://www.regulations.gov, including any personal information provided.

Privacy Act: Anyone is able to search the electronic form of all comments received into any of our dockets by the name of the individual submitting the comment (or signing the comment, if submitted on behalf of an association, business, labor union, etc.). You may review DOT's complete Privacy Act Statement in the Federal Register published on April 11, 2000 (65 FR 19477-78) or you may visit http://www.dot.gov/privacy.html.

Docket: For access to the docket to read background documents or comments received, go to http://www.regulations.gov, or the street address listed above. Follow the online instructions for accessing the dockets.

FOR FURTHER INFORMATION CONTACT: Mike Joyce, Marketing Specialist, Office of Communications and Consumer Information (NPO-520), National Highway Traffic Safety Administration, 1200 New Jersey Ave, SE., W52-238, Washington, DC 20590. Mike Joyce's phone number is 202-366-5600 and his e-mail address is Mike.Joyce@dot.gov.

SUPPLEMENTARY INFORMATION: Under the Paperwork Reduction Act of 1995, before an agency submits a proposed collection of information to OMB for approval, it must first publish a document in the Federal Register providing a 60-day comment period and otherwise consult with members of the public and affected agencies concerning each proposed collection of information. The OMB has promulgated regulations describing what must be included in such a document. Under OMB's regulation (at 5 CFR 1320.8(d)), an agency must ask for public comment on the following:

(i) Whether the proposed collection of information is necessary for the proper performance of the functions of the agency, including whether the information will have practical utility;

(ii) The accuracy of the agency's estimate of the burden of the proposed collection of information, including the validity of the methodology and assumptions used;

(iii) How to enhance the quality, utility, and clarity of the information to be collected;

(iv) How to minimize the burden of the collection of information on those who are to respond, including the use of appropriate automated, electronic, mechanical, or other technological collection techniques or other forms of information technology, e.g. permitting electronic submission of responses.

In compliance with these requirements, NHTSA asks for public comments on the following proposed collection of information for which the agency is seeking approval from

OMB

Title: Monroney Label Consumer Research.

Requested Expiration Date of Approval: Three years from approval date.

Abstract: The National Highway Traffic Safety Administration (NHTSA) was established by the Highway Safety Act of 1970 (23 U.S.C. 101) to carry out a Congressional mandate to reduce the mounting number of deaths, injuries, and economic losses resulting from motor vehicle crashes on the Nation's highways. In support of this mission, NHTSA proposes to conduct a limited number of focus group sessions with members of the general public to help inform future revisions to the Monroney label and guide the development of a consumer education program.

Summary of the Collection of Information: In this collection of information, NHTSA is requesting to explore how consumers evaluate the Monroney label, and comprehension of the 5-Star Safety Ratings and understand the potential tradeoffs consumers make among the items included on the Monroney label. The research will also consider the location and size of the safety rating label and compare with other areas of the Monroney label and explore adding the advanced crash avoidance safety information to the safety rating label. Additional areas of exploration will be evaluated, including:

(i) Vehicle purchase decision-making criteria;

(ii) Sources of vehicle safety information;

(iii) Monroney label content, comprehension and potential tradeoffs; and,

(iv) New changes to the safety rating section of the Monroney label to help inform future revisions.

Description of the Need for the Information and the Proposed Use of the Information: NHTSA must explore how safety information impacts vehicle purchase decisions, where consumers look for safety information and how consumers use safety and other information located on the Monroney label in their purchase decisions, which will help inform future revisions to the Monroney label. Additionally, NHTSA will use this research to discuss potential communication channels in order to guide the development of a consumer education program.

Affected Public: NHTSA will conduct two research phases. For the first phase, which this notice addresses, NHTSA will conduct one type of qualitative research. This research project will consist of two (2) focus groups in five (5) cities for a maximum of ten (10) focus group sessions, lasting 120 minutes and will be held with eight (8) participants in each session. Participation by all respondents would be voluntary, and respondents will receive $75 for their participation. For recruiting of these participants, however, a total of 120 potential participants (12 per group) will be recruited via telephone screening calls, which are estimated to take 10 minutes per call. Based on experience, it is prudent to recruit up to 12 people per group in order to ensure at least 8 will actually appear at the focus group facility at the appointed time. Thus, the total burden per person actually participating in the group discussions is estimated to be 130 minutes (10 minutes for the screening/recruiting telephone call plus 120 minutes in the focus group discussion session). Additionally, the total burden per person recruited (but not participating in the discussions) is 10 minutes.

Estimated Total Annual Burden: 180 hours.

Number of Respondents: 80.

The results of this research phase will be used to finalize the content of a second research phase NHTSA will conduct, which this notice does not address.

Comments are invited on: whether the proposed collection of information is necessary for the proper performance of the functions of the Department, including whether the information will have practical utility; the accuracy of the Department's estimate of the burden of the proposed information collection; ways to enhance the quality, utility and clarity of the information to be collected; and ways to minimize the burden of the collection of information on respondents, including the use of automated collection techniques or other forms of information technology.

Issued on: August 23, 2011.
Gregory A. Walter,
Senior Associate Administrator, Policy and Operations.

[FR Doc. 2011-22643 Filed 9-7-11; 8:45 am]

BILLING CODE 4910-59-P